DEPARTMENT OF DEFENSE

Office of the Secretary

[Docket ID: DoD-2009-HA-0013]

Proposed Collection; Comment Request

AGENCY: Office of the Assistant Secretary of Defense for Health Affairs, DoD.

ACTION: Notice.

SUMMARY: In accordance with Section 3506(c)(2)(A) of the Paperwork Reduction Act of 1995, the Office of the Assistant Secretary of Defense for Health Affairs announces the proposed extension of a public information collection and seeks public comment on the provisions thereof. Comments are invited on: (a) Whether the proposed extension of collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received April 3, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Office of the Assistant Secretary of Defense for Health Affairs (OASD), TRICARE—Health Program Analysis and Evaluation, ATTN: LtCol Lorraine Babeu, 5111 Leesburg Pike, Suite 810A, Falls Church, VA 22041-3206, or call (703) 681-0039.

Title Associated With Form, and OMB Number: Public Perceptions of Military Health Care System; OMB No. 0720-0038.

Needs and Uses: The goal of this survey effort is to determine the public's perceptions of Military Health Care and compare and contrast that with their perceptions of U.S. Health Care.

Affected Public: Individuals or households.

Annual Burden Hours: 133.

Number of Respondents: 1,000.

Responses per Respondent: 1.

Annual Responses: 1,000.

Average Burden per Response: .133 (8 minutes).

Frequency: Annually.

SUPPLEMENTARY INFORMATION:

Summary of Information Collection

The goal of this survey effort is to understand and compare the public's perceptions of Military health care to that of Health Care in general in the United States. The Military Health Care System's vision statement is—“A world class health system that supports the military mission by fostering, protecting, sustaining and restoring health”. Recent developments have tarnished that vision. The media have focused attention on the plight of wounded military personnel in the direct care environment. They have published various articles and stories on the shortfalls of Military Health Care to include support services (Medical Evaluation Boards, Physical Evaluation Boards, Housing, Pay, etc.) as provided in accounts from beneficiary and other sources. There are numerous and ongoing anecdotal accounts of red tape, bureaucracy, physician shortages (particularly mental health care workers), substandard care, neglect, problems with consults and appointments, and overall perceived deep and systemic failures of the Military Health Care System. HA/TMA is very concerned about the implications of these negative accounts of Military Health Care on the perceptions of the public regarding the provision of health care, ancillary and support services. HA/TMA would like to understand the extent to which the public holds negative perceptions of the system, what their perceptions were/are about Military Health Care in general and what can be done, if anything, to help regain the public's trust in this important resource since this current breech occurred. We would also like to compare and contrast the public's perceptions of Military Health Care with those of Health Care in the public arena as a way to gain more insight into the issue. Moreover, health care for military personnel and their family members has often been cited as one of the key recruitment and retention tools for the Department. Data from this survey will help establish a baseline for understanding the public's attitude about Military Health Care and help determine if changes in the system based on recommended interventions such as increased staffing, computerized medical records, streamlined processes and procedures, etc., will improve the public's perceptions or attitudes. For the purposes of this survey, Military Health Care is defined as medical and dental care for individuals entitled to health care under 10 U.S.C., Chapter 55.

Dated: January 27, 2009.
Patricia L. Toppings,
OSD Federal Register Liaison Officer, Department of Defense.

[FR Doc. E9-2198 Filed 1-30-09; 8:45 am]

BILLING CODE 5001-06-P